ENVIRONMENTAL PROTECTION AGENCY

[OARM-2006-0101; FRL-8036-7]

Establishment of New System of Records Notice for EZHIRE

AGENCY: Environmental Protection Agency (EPA).

ACTION: Notice of Establishment of a New System of Records Notice for EZHIRE.

SUMMARY: Pursuant to the provisions of the Privacy Act of 1974 (5 U.S.C. 552a), the Office of Human Resources is giving notice that it proposes to establish a new system of records, EZHire. This system of records is a web-based hiring management system that collects, maintains, monitor, and track individuals filing employment applications with U.S. EPA and to assess recruiting goals and objectives.

DATES: Persons wishing to comment on this new system of records notice may do so by April 5, 2006. Unless there is a further notice in the Federal Register, this system of records will become effective on April 5, 2006.

ADDRESSES: Questions regarding this notice should be referred to Rose Ann Clark, Office of Human Resources, Ariel Rios East Building, 1200 Pennsylvania Ave., NW., Washington, DC 20460.

FOR FURTHER INFORMATION CONTACT: Rose Ann Clark or (202) 564-7877.

SUPPLEMENTARY INFORMATION:

General Information

The EZHire system of records does not duplicate any existing recruitment system of records. Details regarding the new system of records are contained in this Federal Register Notice. The new system is a web-based hiring management system for advertised vacancies that allows individuals to file applications for employment with the U.S. EPA in response to advertised position vacancy announcements. Access to the system is restricted to authorized users and will be maintained in a secure, password protected computer system, in secure areas and buildings with physical access controls and environmental controls. The system is maintained by the Office of Human Resources.

EPA has established an official public docket for this action under Docket ID No. EPA-HQ-OARM-2006-0101. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above.

Dated: February 15, 2006.
Linda A. Travers,
Acting Assistant Administrator and Chief Information Officer.

EPA-56

System Name:

EZHIRE.

System Location:

Human Resources Office, Personnel Services Branch, United States Environmental Protection Agency (EPA) 1200 Pennsylvania Avenue, Washington, DC 20640.

Categories of Individuals Covered By the System:

Individuals filing applications for employment with the U.S. Environmental Protection Agency in response to advertised position vacancy announcements.

Categories of Records in the System:

Position vacancy announcement information such as position title, series and grade level(s), office and duty location, opening and closing date of the announcement, and dates of referral and return of lists of qualified candidates; applicant personal data such as name, address, social security number, date of birth, sex, veterans' preference and federal competitive status; and applicant qualification and processing information such as qualifications, grade level eligibility, reason for ineligibility, referral status, and dates of notification.

Authority for Maintenance of the System:

5 U.S.C. 1104, 5 U.S.C. 1302, 5 U.S.C. 3301, 5 U.S.C. 3304, 5 U.S.C., 3320, 5 U.S.C. 3327, 5 U.S.C. 3361, and 5 U.S.C. 3393; Executive Order 9397 (Nov. 22, 1943).

Purpose(s):

The records are collected and maintained to monitor, track and rank qualified individuals filing employment applications with the U.S. EPA and to assess recruiting goals and objectives. EZHire will improve time-to-hire cycle, it will comply with the security requirements of Federal Information Security Management Act (FISMA), collect Equal Employment Opportunity (EEO) data and facilitate ad hoc reporting.

General Routine Uses of EPA Systems of Records:

A. To the U.S. Office of Personnel Management, the Merit Systems Protection Board, the Office of Government Ethics, the Office of Special Counsel, the Federal Labor Relations Authority or its General Counsel, the Equal Employment Opportunity Commission, to the extent disclosure is determined to be relevant and necessary to carry out the government-wide personnel management, investigatory, adjudicatory, and appellate functions within their respective jurisdictions;

B. To a congressional office in response to a written inquiry made by a congressional office at the request of the individual to whom the record pertains;

C. To the appropriate Federal, State or local agency or responsible authority, such information that is necessary and pertinent for investigating or prosecuting a violation of, or for enforcing or implementing a statute, rule, regulation, or order, when the information indicates a violation or potential violation of law, whether civil, criminal, or regulatory in nature, and whether arising by general statute or particular program statute, or by regulation, rule or order issued pursuant thereto;

D. To a court, magistrate, or administrative tribunal in the course of presenting evidence, including disclosures to counsel or witnesses in the course of civil discovery, litigation, or settlement negotiations or in connection with criminal proceedings, when the U.S. EPA is a party to the proceeding or has a significant interest in the proceeding and the information is determined to be relevant and necessary; and

E. To a consultant, person or entity who contracts or subcontracts with the U.S. EPA, to the extent necessary for the performance of the contract or subcontract. The recipient of the records shall be required to comply with the requirements of the Privacy Act of 1974, as amended (5 U.S.C. 552a).

Policies and Practices for Storing, Retrieving, Accessing, Retaining, and Disposing of Records in the System:

Storage:

Records are stored in electronic media and paper format.

Retrievability:

Indexed and retrieved by name and social security number of individual applicant.

Safeguards:

Electronic files are password protected and accessible only by authorized personnel (Human Resources Specialist who are assigned to this task). Network servers are located in a locked room with physical access limited to only authorized personnel such as IT personnel.

Retention and Disposal:

Personal data that is collected from the individual is maintained for two years after which all data is removed in accordance with National Archives and Records Administration procedures.

System Manager(s) and Address:

Acting Director, Office of Human Resources, U.S. Environmental Protection Agency, 1200 Pennsylvania Avenue, NW., Washington, DC 20460.

Notification Procedure:

An Individual wishing to determine if they are named in this system of records or gain access to records maintained in this system must be a registered user. (If you have previously applied for employment enter your online applicant User ID (or e-mail address) plus your Password to view or edit the application, personal data or your resume.)

Record Access Procedures:

An individual wishing to determine if they are named in this system of records or gain access to records maintained in this system must be a Registered User.

Contesting Record Procedures:

An individual wishing to contest or amend information maintained in this system should be a Registered User.

Record Source Categories:

None.

Information originates from position vacancy announcements, and applications for employment submitted by individuals.

Exemptions Claimed for The System:

None.

[FR Doc. 06-1738 Filed 2-23-06; 8:45 am]

BILLING CODE 6560-50-P